DEPARTMENT OF AGRICULTURE

Agricultural Marketing Service

[Docket Number FV-05-308]

United States Standards for Grades of Pea Pods

AGENCY: Agricultural Marketing Service, USDA.

ACTION: Notice.

SUMMARY: The Agricultural Marketing Service (AMS) of the Department of Agriculture (USDA) is soliciting comments on the proposed voluntary United States Standards for Grades of Pea Pods. This action is being taken at the request of the Fruit and Vegetable Industry Advisory Committee, which asked AMS to identify commodities that may be better served if grade standards are developed. The proposed standards would provide industry with a common language and uniform basis for trading, thus promoting the orderly and efficient marketing of pea pods.

DATES: Comments must be received by March 27, 2006.

ADDRESSES: Interested persons are invited to submit written comments to the Standardization Section, Fresh Products Branch, Fruit and Vegetable Programs, Agricultural Marketing Service, U.S. Department of Agriculture, 1400 Independence Ave., SW., Room 1661 South Building, Stop 0240, Washington, DC 20250-0240; Fax (202) 720-8871, E-mail FPB.DocketClerk@usda.gov. Comments should make reference to the dates and page number of this issue of the Federal Register and will be made available for public inspection in the above office during regular business hours and on the Internet.

The draft of the proposed United States Standards for Grades of Pea Pods is available by accessing AMS, Fresh Products Branch Web site at: http://www.ams.usda.gov/fv/fpbdocketlist.htm.

FOR FURTHER INFORMATION CONTACT: Cheri L. Emery, at the above address or call (202) 720-2185; E-mail Cheri.Emery@usda.gov.

SUPPLEMENTARY INFORMATION: Section 203(c) of the Agricultural Marketing Act of 1946 (7 U.S.C. 1621-1627), as amended, directs and authorizes the Secretary of Agriculture “To develop and improve standards of quality, condition, quantity, grade, and packaging, and recommend and demonstrate such standards in order to encourage uniformity and consistency in commercial practices.” AMS is committed to carrying out this authority in a manner that facilitates the marketing of agricultural commodities and makes copies of official standards available upon request. The United States Standards for Grades of Fruits and Vegetables that are not requirements of Federal Marketing Orders or U.S. Import Requirements, no longer appear in the Code of Federal Regulations, but are maintained by USDA, AMS, Fruit and Vegetable Programs.

AMS is proposing to establish voluntary United States Standards for Grades of Pea Pods using the procedures that appear in Part 36, Title 7 of the Code of Federal Regulations (7 CFR part 36).

Background

At a meeting of the Fruit and Vegetable Industry Advisory Committee, AMS was asked to identify fresh fruit and vegetables that may be better served if grade standards are developed. As a result, AMS identified pea pods, or as they are sometimes called snow peas, as a commodity possibly in need of official grade standards. Such standards are used by the fresh produce industry to describe the product they are trading, thus facilitating the marketing of the product.

Prior to undertaking research and other work associated to develop the standards, AMS published a notice on May 2, 2005 in the Federal Register (70 FR 83) soliciting comments on the possible development of the United States Standards for Grades of Pea Pods.

In response to the request for comments, AMS received one comment on the development of U.S. standards for pea pods. The comment was from an industry group that expressed support for the development of standards for pea pods. The comment is available by accessing AMS, Fresh Products Branch Web site at: http://www.ams.usda.gov/fvfpbdocketlist.htm. Based on the comment received and information gathered, AMS has developed proposed grade standards for pea pods. This proposal would establish the following grades, as well as a tolerance for each grade: U.S. Fancy and U.S. No. 1. In addition, there are proposed “Tolerances,” and “Application of Tolerances” sections. AMS is proposing to define “Injury,” “Damage” and “Serious Damage,” along with specific basic requirements and definitions for defects.

The official grade of a lot or shipment of fresh vegetables covered by U.S. standards is determined by the procedures set forth in the Regulations Governing Inspection, Certification, and Standards of Fresh Fruits, Vegetables and Other Products (Sec. 51.1 to 51.61).

This notice provides for a 60-day comment period for interested parties to comment on the proposed United States Standards for Grades of Pea Pods.

Authority: 7 U.S.C. 1621-1627.

Dated: January 18, 2006.
Lloyd C. Day,
Administrator, Agricultural Marketing Service.

[FR Doc. E6-784 Filed 1-23-06; 8:45 am]

BILLING CODE 3410-02-P